DEPARTMENT OF AGRICULTURE

Rural Business-Cooperative Service

[Docket No. RBS-26-BUSINESS-0133]

Notice of Funding Opportunity for the Rural Microentrepreneur Assistance Program (RMAP) for Fiscal Year 2026

AGENCY: Rural Business-Cooperative Service, U.S. Department of Agriculture (USDA).

ACTION: Notice of funding opportunity.

SUMMARY: The Rural Business-Cooperative Service (RBCS or the Agency), a Rural Development (RD) agency of the United States Department of Agriculture (USDA) is issuing a Notice of Funding Opportunity (NOFO) to announce acceptance of grant, loan, and combined grant and loan applications under the Rural Microentrepreneur Assistance Program (RMAP). In future years this funding opportunity will only be announced on the Agency website and grants.gov, without a Federal Register notice. Therefore, in future years, neither the funding opportunity nor reference to the funding opportunity in grants.gov will appear in the Federal Register. Please make a note of this change in location of the funding announcement in your records.

DATES: February 25, 2026.

ADDRESSES: Full funding notice is available on grants.gov. Program guidance and application forms may be obtained at https://www.rd.usda.gov/programs-services/business-programs/rural-microentrepreneur-assistance-program.

FOR FURTHER INFORMATION CONTACT: Shamika Johnson, Program Management Division, Business Programs, RBCS, USDA, 1400 Independence Avenue SW, Mail Stop 3226, Room 5160-S, Washington, DC 20250-3226, or call (202) 720-1400. For further information on this notice, please contact the RD State Office in the State where the project is located. A list of RD State Office contacts is provided at the following link: rd.usda.gov/about-rd/offices/state-offices.

SUPPLEMENTARY INFORMATION: The full text of the Notice of Funding Opportunity (NOFO) is available on the Agency website and on grants.gov using Funding Opportunity Number RD-RBCS-26-RMAP or Assistance Listing Number 10.870.

Jeremy Claeys,
Administrator, Rural Business-Cooperative Service, USDA Rural Development.

[FR Doc. 2026-03790 Filed 2-24-26; 8:45 am]

BILLING CODE 3410-XY-P